DEPARTMENT OF AGRICULTURE

Food and Nutrition Service

Child and Adult Care Food Program: National Average Payment Rates, Day Care Home Food Service Payment Rates, and Administrative Reimbursement Rates for Sponsoring Organizations of Day Care Homes for the Period July 1, 2021 Through June 30, 2022

Correction

In notice document 2021-14435 appearing on pages 35731-35733 in the issue of July 7, 2021, make the following correction:

On page 35722, in the table “CHILD AND ADULT CARE FOOD PROGRAM (CACFP)”, in the fourth column, in the third line, “.05” should read “.50”.

[FR Doc. C1-2021-14435 Filed 7-20-21; 8:45 am]

BILLING CODE 0099-10-D